FEDERAL RESERVE SYSTEM

Agency Information Collection Activities: Announcement of Board Approval Under Delegated Authority and Submission to OMB

AGENCY: Board of Governors of the Federal Reserve System.

SUMMARY: The Board of Governors of the Federal Reserve System (Board) is adopting a proposal to extend for three years, with revision, the Transfer Agent Registration and Amendment Form and Transfer Agent Deregistration Form (Form TA-1 and Form TA-W); OMB No. 7100-0099).

FOR FURTHER INFORMATION CONTACT: Federal Reserve Board Clearance Officer—Nuha Elmaghrabi—Office of the Chief Data Officer, Board of Governors of the Federal Reserve System, nuha.elmaghrabi@frb.gov, (202) 452-3884.

Office of Management and Budget (OMB) Desk Officer for the Federal Reserve Board, Office of Information and Regulatory Affairs, Office of Management and Budget, New Executive Office Building, Room 10235, 725 17th Street NW, Washington, DC 20503, or by fax to (202) 395-6974.

SUPPLEMENTARY INFORMATION: On June 15, 1984, OMB delegated to the Board authority under the Paperwork Reduction Act (PRA) to approve and assign OMB control numbers to collections of information conducted or sponsored by the Board. Board-approved collections of information are incorporated into the official OMB inventory of currently approved collections of information. The OMB inventory, as well as copies of the PRA Submission, supporting statements, and approved collection of information instrument(s) are available at https://www.reginfo.gov/public/do/PRAMain. These documents are also available on the Federal Reserve Board's public website at https://www.federalreserve.gov/apps/reportforms/review.aspx or may be requested from the agency clearance officer, whose name appears above.

Final Approval Under OMB Delegated Authority of the Extension for Three Years, With Revision, of the Following Information Collection

Collection title: Transfer Agent Registration and Amendment Form and Transfer Agent Deregistration Form.

Collection identifier: Form TA-1 and Form TA-W.

OMB control number: 7100-0099.

Effective Date: December 23, 2022.

Frequency: As needed.

Respondents: The respondent panel for this collection of information consists of current and former transfer agents that are a state member bank (SMB) or a subsidiary thereof, a bank holding company (BHC), a savings and loan holding company (SLHC), or a subsidiary of a BHC that is a bank within the meaning of the Securities Exchange Act of 1934 (Exchange Act) and that is not required to register with the Office of the Comptroller of the Currency (OCC) or the Federal Deposit Insurance Corporation (FDIC).

Estimated number of respondents: Registrations, 1; Amendments, 1; Deregistrations, 1.

Estimated average hours per response: Registrations, 1.25; Amendments, 0.16; Deregistrations, 0.5.

Estimated annual burden hours: Registrations, 1; Amendments, 0.16; Deregistrations, 1.

General description of collection: The Exchange Act requires any person acting as a transfer agent ¹ to register as such with the appropriate regulatory agency (ARA). The Board is the ARA for transfer agents listed in the respondents section above. Transfer agents for which the Board is the ARA must register with the Board using Form TA-1. Additionally, registered transfer agents for which the Board is their ARA may deregister by submitting Form TA-W.

¹ Transfer agents are persons that provide securities transfer, registration, monitoring, and other specified services on behalf of securities issuers. See 15 U.S.C. 78c(25) (defining “transfer agent”).

Legal authorization and confidentiality: This information collection is authorized under section 17A(c) of the Exchange Act.² The collection is also authorized under sections 2, 17(a)(3), and 23(a) of the Exchange Act ³ and under the Board's general authority to require reports from SMBs,⁴ BHCs,⁵ and SLHCs.⁶ The collection is mandatory for transfer agents for which the Board is the ARA. Information collected on the forms is available to the public upon request and is not considered confidential.

² 15 U.S.C. 78q-1(c) (requiring all transfer agents for securities registered under section 12 of the Exchange Act to register with the ARA by filing “an application for registration in such form and containing such information” as the ARA may prescribe).

³ 12 U.S.C. 78b, 78q(a)(3) and 78w(a) (authorizing the Board to promulgate regulations and establish recordkeeping and reporting requirements with respect to Board-registered Transfer Agents).

⁴ 12 U.S.C. 248(a) and 324.

⁵ 12 U.S.C. 1844(c).

⁶ 12 U.S.C. 1467a(b) and (g).

Current actions: On July 6, 2022, the Board published a notice in the Federal Register (87 FR 40236) requesting public comment for 60 days on the extension, with revision, of the Form TA-1 and Form TA-W. The Board proposed to utilize its own Form TA-W for respondents to deregister rather than asking respondents to use an SEC form or submit a separate letter, as has been done in the past. This would allow the Board to have its OMB control number on the form and make any changes in the future if necessary. The draft Form TA-W asks the same type of information that is on the SEC deregistration form. The comment period for this notice expired on September 6, 2022. The Board did not receive any comments. The revisions will be implemented as proposed.

Board of Governors of the Federal Reserve System, November 17, 2022.
Michele Taylor Fennell,
Deputy Associate Secretary of the Board.

[FR Doc. 2022-25493 Filed 11-22-22; 8:45 am]

BILLING CODE 6210-01-P